DEPARTMENT OF TRANSPORTATION

Pipeline and Hazardous Materials Safety Administration

49 CFR Parts 107, 171, 172, 173, 174, 180

[Docket No. PHMSA-2009-0237 (HM-244B)]

RIN 2137-AE50

Hazardous Materials: Minor Editorial Corrections and Clarifications

AGENCY: Pipeline and Hazardous Materials Safety Administration (PHMSA), DOT.

ACTION: Final rule.

SUMMARY: This final rule corrects editorial errors, makes minor regulatory changes and, in response to requests for clarification, improves the clarity of certain provisions in the Hazardous Materials Regulations. The intended effect of this rule is to enhance the accuracy and reduce misunderstandings of the regulations. The amendments contained in this rule are non-substantive changes and do not impose new requirements.

DATES: Effective date: October 16, 2009.

FOR FURTHER INFORMATION CONTACT: Steven Andrews, Office of Hazardous Materials Standards, 202-366-8553, PHMSA, East Building, PHH-10, 1200 New Jersey Avenue, SE., Washington, DC 20590.

SUPPLEMENTARY INFORMATION:

I. Background

The Pipeline and Hazardous Materials Safety Administration (PHMSA) (“we”) annually reviews the Hazardous Materials Regulations (HMR; 49 CFR Parts 171-180) to identify typographical and other errors, outdated addresses or other contact information, and similar errors. In this final rule, we are correcting typographical errors, incorrect CFR references and citations, an incomplete office address, inconsistent use of terminology, misstatements of certain regulatory requirements and inadvertent omissions of information. Because these amendments do not impose new requirements, notice and public comment procedures are unnecessary. By making these amendments effective without the customary 30-day delay following publication, the changes will appear in the next revision of the 49 CFR.

II. Section by Section Review

The following is a summary by section of the more substantive changes made in this final rule. The summary does not include minor editorial corrections such as punctuation errors or similar minor revisions.

Part 107

Appendix A to Subpart D of Part 107: In Appendix A to Subpart D of Part 107, in part II “List of Frequently Cited Violations,” under the heading “Manufacturing, Reconditioning, Retesting Requirements,” under “F. Cylinder Requalification” entry 7, in the second column, we are correcting the reference to “§ 178.205(c)” to “§ 180.205(c).”

Section 107.705

This section prescribes requirements for persons who file registrations, reports, and applications for approval. We are updating the office mailing address in paragraph (a)(1) for submitting these documents.

Part 171

Section 171.8

This section contains definitions for certain terms used in the HMR. We are revising the definition for “commerce” in § 171.8 to align it with the definition contained in the Federal hazardous materials transportation law (Federal hazmat law; 49 U.S.C. 5101 et seq.), as amended by the Hazardous Materials Safety and Security Reauthorization Act of 2005 (the Act; Title VII of Public Law 109-59, 119 Stat. 1144 (August 10, 2005)). The revised definition adds transportation on a United States-registered aircraft to clarify that such transportation is considered transportation in commerce for purposes of Federal hazmat law and the HMR. In this final rule, we are revising the definition of “commerce” in the HMR to read: “Commerce means trade or transportation in the jurisdiction of the United States within a single state; between a place in a state and a place outside of the state; that affects trade or transportation between a place in a state and place outside of the state; or on a United States-registered aircraft.” In addition, we are revising the definition of “material poisonous by inhalation” to clarify that the term is synonymous with “material toxic by inhalation.”

Section 171.12

This section prescribes requirements for hazardous materials shipments transported to or from Canada or Mexico. Paragraph (a)(1) provides that these shipments must meet the applicable requirements in §§ 171.22 and 171.23; these sections are contained in Subpart C of Part 171. Therefore, we are also revising the introductory language in the last sentence in paragraph (a)(1) to include compliance with the applicable requirements in “subpart C of this part.”

Section 171.15

This section prescribes requirements for the immediate telephonic notification of certain hazardous materials incidents. In this final rule, we are revising paragraph (a) to permit notifications to the National Response Center to be submitted electronically through an Internet site.

Section 171.22

This section contains authorizations and conditions for the use of international standards and regulations for the transportation of hazardous materials to, from, or within the United States. As stated earlier in the preamble discussion to § 171.8, the definition of “commerce” is revised in this final rule to recognize that the term includes the transportation of hazardous materials aboard any United States-registered aircraft. Consistent with the revision made to the definition of “commerce,” we are revising paragraph (a) in § 171.22 to clarify that the authorization provided in this section for use of international standards applies to transportation on U.S.-registered aircraft anywhere in the world, not just to transportation in commerce of hazardous materials “to, from, or within the United States.”

Part 172

Section 172.101

This section contains the Hazardous Materials Table (HMT) and explanatory text for each of the columns in the table. In this final rule, we are removing the entries “Nitrous oxide and carbon dioxide mixtures, see Carbon dioxide and nitrous oxide mixtures,” “Oxygen and carbon dioxide mixtures, see Carbon dioxide and oxygen mixtures,” and “Oxygen, mixtures with rare gases, see Rare gases and oxygen mixtures” because the HMT entries to which the reader is directed are no longer in the HMT. These entries, “Carbon dioxide and nitrous oxide mixtures, UN1015,” “Carbon dioxide and oxygen mixtures, compressed, UN1014,” and Rare gases and oxygen mixtures, compressed, UN1980, were removed in a final rule published under Docket HM-215I (71 FR 78596; December 29, 2006).

Section 172.320

This section prescribes marking requirements for packages of Class 1 (explosive) materials. We are removing paragraph (e)(4) because it contains an obsolete provision and the paragraph designation is reserved.

Part 173

Section 173.62

This section prescribes the specific packaging requirements for explosives. We are correcting the formatting of Packing Instruction 134 in the Table of Packing Methods to move the fibreboard (4G) package from the column headed “Inner packagings” to the column headed “Outer packagings.” This reformatting error occurred in the printing of a previous rulemaking.

Section 173.124

This section prescribes the definitions for Class 4, Divisions 4.1, 4.2 and 4.3 materials. Due to a printing error, the test procedure for assigning a self-reactive material to a generic type was inadvertently printed in multiple locations and the definition of a type C self-reactive material was inadvertently omitted from this section. Therefore, to correct this printing error, we are revising paragraphs (a)(2)(ii)(C) and (a)(2)(iii)(C) to delete the duplicate test procedure and reinstate the definition of a type C self-reactive material.

Section 173.133

This section prescribes the assignment of packing group and hazard zones for Division 6.1 materials. We are revising the table in § 173.133(a)(1) to correct the reference to § 172.203(m)(2) to read § 172.203(m).

Section 173.168

This section specifies requirements for transportation of chemical oxygen generators. Paragraph (d)(2)(i) contains the test procedure and acceptance criteria for the Flame Penetration Resistance Test. In a September 28, 2007 final rule (72 FR 55091), we moved the entire test procedure to new Appendix E to Part 178 but failed to remove the corresponding language in paragraph (d)(2)(i). In this final rule, we are revising paragraph (d) to remove the duplicative language.

Section 173.304

This section prescribes filling requirements for cylinders of liquefied compressed gases. We are revising paragraph (f)(3)(ii) to correct “part 78” to read “part 178.”

Part 174

Section 174.59

This section prescribes marking and placarding requirements for rail cars offered for transportation. In the last sentence, we are correcting a reference to § 171.12a to read § 171.12.

Part 176

Section 176.415

This section prescribes requirements for the transportation by vessel of Division 1.5, ammonium nitrates, and certain ammonium nitrate fertilizers. We are correcting paragraph (c)(4) to remove the word “and” at the end of the sentence.

Part 180

Section 180.209

This section, which prescribes requalification requirements for DOT specification cylinders, contains a paragraph (a)(1) but no (a)(2). We are correcting this formatting inconsistency by removing the paragraph designation “(1)” preceding the first full sentence.

Section 180.407

This section prescribes periodic requalification requirements for specification cargo tanks. Paragraphs (c) and (h) require each cargo tank to be tested for leaks, to include the product piping with all valves and accessories in place and operative. Paragraph (h)(2) permits cargo tanks equipped with vapor collection equipment and used to transport petroleum distillate fuels to be leakage tested in accordance with the Environmental Protection Agency's (EPA's) Method 27 in place of the HMR requirement and specifies that the test must be conducted in accordance with the test methods and procedures prescribed in 40 CFR 63.425(e)(1). However, the paragraph inadvertently fails to reference the required cargo tank internal valve test procedures in paragraph (e)(2). Therefore, in this final rule, we are revising paragraph (h)(2) in § 180.407 of the HMR to reference 40 CFR 63.425(e)(2).

Section 180.605

This section prescribes requalification requirements for specification and UN portable tanks. Paragraph (h)(1) prescribes the pressure test procedures for specification 51, 56, and 57 portable tanks; however, the paragraph heading does not reference specification 56 portable tanks. In this final rule, are revising paragraph (h) heading to include the specification 56 portable tanks.

III. Regulatory Analyses and Notices

A. Statutory Authority

This final rule is published under authority of 49 U.S.C. 5103(b), which authorizes the Secretary of Transportation to prescribe regulations for the safe transportation, including security, of hazardous material in intrastate, interstate, and foreign commerce. The purpose of this final rule is to remove unnecessary cross references to the hazardous materials table, correct mailing addresses, grammatical and typographical errors, and, in response to requests for clarification, improve the clarity of certain provisions in the Hazardous Materials Regulations.

B. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). This final rule does not impose new or revised requirements for hazardous materials shippers or carriers; therefore, it is not necessary to prepare a regulatory impact analysis.

C. Executive Order 13132

This final rule has been analyzed in accordance with the principles and criteria in Executive Order 13132 (“Federalism”). This final rule does not adopt any regulation that: (1) Has substantial direct effects on the states, the relationship between the national government and the states, or the distribution of power and responsibilities among the various levels of government; or (2) imposes substantial direct compliance costs on state and local governments. PHMSA is not aware of any state, local, or Indian tribe requirements that would be preempted by correcting editorial errors and making minor regulatory changes. This final rule does not have sufficient federalism impacts to warrant the preparation of a federalism assessment.

D. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply, and a tribal summary impact statement is not required.

E. Regulatory Flexibility Act, Executive Order 13272, and DOT Procedures and Policies

I certify that this final rule will not have a significant economic impact on a substantial number of small entities. This rule makes minor editorial changes which will not impose any new requirements on persons subject to the HMR; thus, there are no direct or indirect adverse economic impacts for small units of government, businesses, or other organizations.

F. Unfunded Mandates Reform Act of 1995

This rule does not impose unfunded mandates under the Unfunded Mandates Reform Act of 1995. It does not result in costs of $141.3 million or more to either state, local, or tribal governments, in the aggregate, or to the private sector, and is the least burdensome alternative that achieves the objectives of the rule.

G. Paperwork Reduction Act

There are no new information collection requirements in this final rule.

H. Environmental Impact Analysis

There are no environmental impacts associated with this final rule.

I. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 107

Hazardous materials transportation program procedures.

49 CFR Part 171

Exports, Hazardous materials transportation, Hazardous waste, Imports, Reporting and recordkeeping requirements.

49 CFR Part 172

Education, Hazardous materials transportation, Hazardous waste, Labeling, Packaging and containers, Reporting and recordkeeping requirements.

49 CFR Part 173

Hazardous materials transportation, Packaging and containers, Radioactive materials, Reporting and recordkeeping requirements, Uranium.

49 CFR Part 174

Hazardous materials transportation, Carriage by rail.

49 CFR Part 176

Hazardous materials transportation, Maritime carriers, Radioactive materials, Reporting and recordkeeping requirements.

49 CFR Part 180

Hazardous materials transportation, Motor carriers, Motor vehicle safety, Packaging and containers, Railroad safety, Reporting and recordkeeping requirements.

In consideration of the foregoing, 49 CFR Chapter I is amended as follows:

PART 107—HAZARDOUS MATERIALS PROGRAM PROCEDURES

1. The authority citation for part 107 is revised to read as follows:

Authority: 49 U.S.C. 5101-5128, 44701; Pub. L. 101-410 section 4 (28 U.S.C. 2461 note); Pub. L. 104-121 sections 212-213; Pub. L. 104-134 section 31001; 49 CFR 1.45, 1.53.

Appendix A to Subpart D of Part 107—[Amended]

2. In Appendix A to Subpart D of Part 107, in the List of Frequently Cited Violations (Part II), under the heading “Manufacturing, Reconditioning, and Retesting Requirements,” under “F. Cylinder Requalification:”, revise entry 7 to read as follows:

II—List of Frequently Cited Violations
Violation description | Section or cite | Baseline assessment
Manufacturing, Reconditioning, and Retesting Requirements
* * * * * * *
F. Cylinder Requalification: * * * 7. Representing, marking, or certifying a cylinder as meeting the requirements of an exemption or special permit when the cylinder was not maintained or retested in accordance with the exemption or special permit | 171.2(c), (e), 180.205(c), Applicable Exemption or Special Permit | $2,000 to $6,000.
* * * * * * *

3. In § 107.705, revise paragraph (a)(1) to read as follows:

§ 107.705 Registrations, reports, and applications for approval.

(a) * * *

(1) File the registration, report, or application with the Associate Administrator for Hazardous Materials Safety (Attention: Approvals, PHH-32), Pipeline and Hazardous Materials Safety Administration, U.S. Department of Transportation, East Building, 2nd Floor, E23-406, 1200 New Jersey Avenue, SE., Washington, DC 20590-0001. Alternatively, the document with any attached supporting documentation in an appropriate format may be filed by facsimile (fax) to: (202) 366-3753 or (202) 366-3308 or by electronic mail (e-mail) to: approvals@dot.gov.

* * * * *

PART 171—GENERAL INFORMATION, REGULATIONS, AND DEFINITIONS

4. The authority citation for part 171 continues to read as follows:

Authority: 49 U.S.C. 5101-5128, 44701; 49 CFR 1.45 and 1.53; Pub. L. 101-410 section 4 (28 U.S.C. 2461 note); Pub. L. 104-134 section 31001.

5. In § 171.8, revise the definitions for “commerce” and “materials poisonous by inhalation” to read as follows:

§ 171.8 Definitions and Abbreviations

* * * * *

Commerce means trade or transportation in the jurisdiction of the United States within a single state; between a place in a state and a place outside of the state; that affects trade or transportation between a place in a state and place outside of the state; or on a United States-registered aircraft.

* * * * *

Material poisonous by inhalation or Material toxic by inhalation means:

(1) A gas meeting the defining criteria in § 173.115(c) of this subchapter and assigned to Hazard Zone A, B, C, or D in accordance with § 173.116(a) of this subchapter;

(2) A liquid (other than as a mist) meeting the defining criteria in § 173.132(a)(1)(iii) of this subchapter and assigned to Hazard Zone A or B in accordance with § 173.133(a) of this subchapter; or

(3) Any material identified as an inhalation hazard by a special provision in column 7 of the § 172.101 table.

* * * * *

6. In § 171.12, revise paragraph (a)(1) to read as follows:

§ 171.12 North American Shipments.

(a) * * *

(1) A hazardous material transported from Canada to the United States, from the United States to Canada, or transiting the United States to Canada or a foreign destination may be offered for transportation or transported by motor carrier and rail in accordance with the Transport Canada TDG Regulations (IBR, see § 171.7) as authorized in § 171.22, provided the requirements in §§ 171.22 and 171.23, as applicable, and this section are met. In addition, a cargo tank motor vehicle, portable tank or rail tank car authorized by the Transport Canada TDG Regulations may be used for transportation to, from, or within the United States provided the cargo tank motor vehicle, portable tank or rail tank car conforms to the applicable requirements of this section. Except as otherwise provided in this subpart and subpart C of this part, the requirements in parts 172, 173, and 178 of this subchapter do not apply for a material transported in accordance with the Transport Canada TDG Regulations.

* * * * *

7. In § 171.15, revise paragraph (a) introductory text to read as follows:

§ 171.15 Immediate notice of certain hazardous materials incidents.

(a) General. As soon as practical but no later than 12 hours after the occurrence of any incident described in paragraph (b) of this section, each person in physical possession of the hazardous material must provide notice to the National Response Center (NRC) by telephone at 800-424-8802 (toll free) or 202-267-2675 (toll call) or online at http://www.nrc.uscg.mil. Notice involving an infectious substance (etiologic agent) may be given to the Director, Centers for Disease Control and Prevention (CDC), U.S. Public Health Service, Atlanta, GA, 800-232-0124 (toll free), in place of notice to the NRC. Each notice must include the following information:

* * * * *

8. In § 171.22, revise paragraph (a) to read as follows:

§ 171.22 Authorization and conditions for the use of international standards and regulations.

(a) Authorized international standards and regulations. This subpart authorizes, with certain conditions and limitations, the offering for transportation and the transportation in commerce of hazardous materials in accordance with the International Civil Aviation Organization's Technical Instructions for the Safe Transport of Dangerous Goods by Air (ICAO Technical Instructions), the International Maritime Dangerous Goods Code (IMDG Code), Transport Canada's Transportation of Dangerous Goods Regulations (Transport Canada TDG Regulations), and the International Atomic Energy Agency Regulations for the Safe Transport of Radioactive Material (IAEA Regulations) (IBR, see § 171.7).

* * * * *

PART 172—HAZARDOUS MATERIALS TABLE, SPECIAL PROVISIONS, HAZARDOUS MATERIALS COMMUNICATIONS, EMERGENCY RESPONSE INFORMATION, TRAINING REQUIREMENTS, AND SECURITY PLANS

9. The authority citation for part 172 continues to read as follows:

Authority: 49 U.S.C. 5101-5128; 44701; 49 CFR 1.53.

PART 172—HAZARDOUS MATERIALS TABLE, SPECIAL PROVISIONS, HAZARDOUS MATERIALS COMMUNICATIONS, EMERGENCY RESPONSE INFORMATION, TRAINING REQUIREMENTS, AND SECURITY PLANS

10. In § 172.101, in the Hazardous Materials Table, remove the following entries.

Symbols | Hazardous materials descriptions and proper shipping names | Hazard class or division | Identification numbers | PG | Label codes | Special provisions (§ 172.102) | (8) Packaging (§ 173.***): Exceptions | (8) Packaging (§ 173.***): Non-bulk | (8) Packaging (§ 173.***): Bulk | (9) Quantity limitations (See §§ 173.27 and 175.75): Passenger aircraft/rail | (9) Quantity limitations (See §§ 173.27 and 175.75): Cargo aircraft only | (10) Vessel stowage: Location | (10) Vessel stowage: Other
(1) | (2) | (3) | (4) | (5) | (6) | (7) | (8A) | (8B) | (8C) | (9A) | (9B) | (10A) | (10B)
| [REMOVE]
* * * * * * *
| Nitrous oxide and carbon dioxide mixtures, see Carbon dioxide and nitrous oxide mixtures
* * * * * * *
| Oxygen and carbon dioxide mixtures, see Carbon dioxide and oxygen mixtures
* * * * * * *
| Oxygen, mixtures with rare gases, see Rare gases and oxygen mixtures
* * * * * * *

* * * * *

11. In § 172.320, revise paragraph (e) to read as follows:

§ 172.320 Explosive hazardous materials.

* * * * *

(e) The requirements of this section do not apply to the following Class 1 materials:

(1) Those being shipped to a testing agency in accordance with § 173.56(d) of this subchapter;

(2) Those being shipped in accordance with § 173.56(e) of this subchapter, for the purposes of developmental testing;

(3) Those which meet the requirements of § 173.56(h) of this subchapter and therefore are not subject to the approval process of § 173.56 of this subchapter;

(4) [Reserved];

(5) Those that are transported in accordance with § 173.56(c)(2) of this subchapter and, therefore, are covered by a national security classification currently in effect.

PART 173—SHIPPERS—GENERAL REQUIREMENTS FOR SHIPMENTS AND PACKAGINGS

12. The authority citation for part 173 continues to read as follows:

Authority: 49 U.S.C. 5101-5128, 44701; 49 CFR 1.45, 1.53.

13. In § 173.62, in paragraph (c), revise Packing instruction 134 in the Table of Packing Methods to read as follows:

§ 173.62 Specific packaging requirements for explosives.

* * * * *

(c) * * *

Table of Packing Methods
Packing instruction | Inner packagings | Intermediate packagings | Outer packagings
* * * * * * *
134 | Bags water resistant Receptacles fibreboard metal plastics wood Sheets fibreboard, corrugated Tubes fibreboard | Not necessary | Boxes. steel (4A). aluminium (4B). wood, natural, ordinary (4C1). wood, natural, sift proof walls (4C2). plywood (4D). reconstituted wood (4F). fibreboard (4G). plastics, expanded (4H1). plastics, solid (4H2). Drums. fibreboard (1G). plastics, removable head (1H2). steel, removable head (1A2). aluminium, removable head (1B2). plywood (1D).
* * * * * * *

* * * * *

14. In § 173.124, revise paragraphs (a)(2)(ii)(C) and (a)(2)(iii)(C) to read as follows:

§ 173.124 Class 4, Divisions 4.1, 4.2 and 4.3—Definitions.

(a) * * *

(2) * * *

(ii) * * *

(C) Type C. Self-reactive material type C is a self-reactive material which, as packaged for transportation, neither detonates nor deflagrates rapidly and cannot undergo a thermal explosion.

* * * * *

(iii) * * *

(C) Performance of the self-reactive material under the test procedures specified in the UN Manual of Tests and Criteria (IBR, see § 171.7 of this subchapter) and the provisions of paragraph (a)(2)(iii) of this section; and

* * * * *

15. In § 173.133, in paragraph (a)(2)(i), revise Note 2 following the table to read as follows:

§ 173.133 Assignment of packing group and hazard zones for Division 6.1 materials.

(a) * * *

(2) * * *

(i) * * *

Note 2: A liquid in Division 6.1 meeting criteria for Packing Group I, Hazard Zones A or B stated in paragraph (a)(2) of this section is a material poisonous by inhalation subject to the additional hazard communication requirements in §§ 172.203(m), 172.313 and table 1 of § 172.504(e) of this subchapter.

* * * * *

16. In § 173.168, revise paragraph (d)(2) to read as follows:

§ 173.168 Chemical oxygen generators.

* * * * *

(d) * * *

(2) After September 30, 2009, with its contents, is capable of meeting the following additional requirements when transported by cargo-only aircraft:

(i) The Flame Penetration Resistance Test specified in Appendix E to part 178 of this subchapter.

(ii) The Thermal Resistance Test specified in Appendix D to part 178 of this subchapter.

* * * * *

17. In § 173.304, revise paragraph (f)(3)(ii) to read as follows:

§ 173.304 Filling of cylinders with liquefied compressed gases.

* * * * *

(f) * * *

(3) * * *

(ii) After September 30, 2009, is capable of passing, as demonstrated by design testing, the Flame Penetration Resistance Test specified in part III of Appendix E to part 178 of this subchapter; and

* * * * *

PART 174—CARRIAGE BY RAIL

18. The authority citation for part 174 continues to read as follows:

Authority: 49 U.S.C. 5101-5128; 49 CFR 1.53.

19. Revise § 174.59 to read as follows:

§ 174.59 Marking and placarding of rail cars.

No person may transport a rail car carrying hazardous materials unless it is marked and placarded as required by this subchapter. Placards and car certificates lost in transit must be replaced at the next inspection point, and those not required must be removed at the next terminal where the train is classified. For Canadian shipments, required placards lost in transit, must be replaced either by those required by part 172 of this subchapter or by those authorized under § 171.12.

PART 176—CARRIAGE BY VESSEL

20. The authority citation for part 176 continues to read as follows:

Authority: 49 U.S.C. 5101-5128; 49 CFR 1.53.

21. In § 176.415, make the following amendments:

a. At the end of paragraph (c)(2), remove the period and add a semi-colon in its place;

b. At the end of paragraph (c)(3), remove the semi-colon and add “; and” in its place; and

c. Revise paragraph (c)(4).

The revision reads as follows:

§ 176.415 Permit requirements for Division 1.5, ammonium nitrates, and certain ammonium nitrate fertilizers.

* * * * *

(c) * * *

(4) Each facility at which the material is to be loaded or unloaded must be located so that each vessel to be loaded or unloaded has an unrestricted passage to open water. Each vessel must be moored bow to seaward, and must be maintained in a mobile status during loading, unloading, or handling operations by the presence of tugs or the readiness of engines. Each vessel must have two wire towing hawsers, each having an eye splice, lowered to the water's edge, one at the bow and the other at the stern.

PART 180—CONTINUING QUALIFICATION AND MAINTENANCE OF PACKAGINGS

22. The authority citation for part 180 continues to read as follows:

Authority: 49 U.S.C. 5101-5128; 49 CFR 1.53.

23. In § 180.209, revise paragraph (a)(1) introductory text to read as follows:

§ 180.209 Requirements for requalification of specification cylinders.

(a) Periodic qualification of cylinders. Each specification cylinder that becomes due for periodic requalification, as specified in the following table, must be requalified and marked in conformance with the requirements of this subpart. Requalification records must be maintained in accordance with § 180.215. Table 1 follows:

* * * * *

24. In § 180.407, revise paragraph (h)(2) to read as follows:

§ 180.407 Requirements for test and inspection of specification cargo tanks.

* * * * *

(h) * * *

(2) Cargo tanks used to transport petroleum distillate fuels that are equipped with vapor collection equipment may be leak tested in accordance with the Environmental Protection Agency's “Method 27—Determination of Vapor Tightness of Gasoline Delivery Tank Using Pressure-Vacuum Test,” as set forth in Appendix A to 40 CFR part 60. Test methods and procedures and maximum allowable pressure and vacuum changes are in 40 CFR 63.425(e). The hydrostatic test alternative, using liquid in Environmental Protection Agency's “Method 27—Determination of Vapor Tightness of Gasoline Delivery Tank Using Pressure-Vacuum Test,” may not be used to satisfy the leak testing requirements of this paragraph. The test must be conducted using air.

* * * * *

25. In § 180.605, revise the heading to paragraph (h) to read as follows:

§ 180.605 Requirements for periodic testing, inspection and repair of portable tanks.

* * * * *

(h) Pressure test procedures for specification 51, 56, 57, 60, IM or UN portable tanks. * * *

* * * * *

Issued in Washington, DC, on October 1, 2009, under authority delegated in 49 CFR part 1.
Cynthia Douglass,
Acting Deputy Administrator, Pipeline and Hazardous Materials Safety Administration.

[FR Doc. E9-24807 Filed 10-15-09; 8:45 am]

BILLING CODE 4910-60-P